DEPARTMENT OF HEALTH AND HUMAN SERVICES

National Institutes of Health

Center for Scientific Review; Amended Notice of Meeting

Notice is hereby given of a change in the meeting of the Center for Scientific Review Special Emphasis Panel, May 22, 2007, 12:30 p.m. to May 22, 2007, 1:30 p.m. National Institutes of Health, 6701 Rockledge Drive, Bethesda, MD 20892 which was published in the Federal Register on April 16, 2007, 72 FR 19010-19011.

The meeting will be held May 23, 2007. The meeting time and location remain the same. The meeting is closed to the public.

Dated: April 19, 2007.
Jennifer Spaeth,
Director, Office of Federal Advisory Committee Policy.

[FR Doc. 07-2124 Filed 4-30-07; 8:45 am]

BILLING CODE 4140-01-M